ENVIRONMENTAL PROTECTION AGENCY

[FRL-9107-01-OA]

Local Government Advisory Committee (LGAC) and Small Communities Advisory Subcommittee (SCAS) Meeting

AGENCY: Environmental Protection Agency (EPA).

ACTION: Notification of public meeting.

SUMMARY: Pursuant to the Federal Advisory Committee Act (FACA), EPA herby provides notice of a meeting for the Local Government Advisory Committee (LGAC) and the Small Communities Advisory Subcommittee (SCAS) on the date and time described below. This meeting will be open to the public. For information on public attendance and participation, please see the registration information under SUPPLEMENTARY INFORMATION. Due to unforeseen administrative circumstances, EPA is announcing this meeting with less than 15 calendar days' notice.

DATES: The LGAC and the SCAS will meet virtually October 15th, 2021 starting at 12:00 p.m. through 4:30 p.m. Eastern Time.

FOR FURTHER INFORMATION CONTACT: Paige Lieberman, Designated Federal Officer (DFO), at LGAC@epa.gov or 202-564-3115.

Information on Accessibility: For information on access or services for individuals requiring accessibility accommodations, please contact Paige Lieberman by email at LGAC@epa.gov. To request accommodation, please do so five (5) business days prior to the meeting, to give EPA as much time as possible to process your request.

SUPPLEMENTARY INFORMATION: This will convene the first LGAC and SCAS meeting since EPA's August 2021 appointment of new and returning members. During the meeting, EPA will share its vision for the agency over the next several years, including providing clean and safe water to all, safeguarding and revitalizing communities, addressing climate change, advancing environmental justice, and ensuring the safety of chemicals for people and the environment. LGAC and SCAS members will discuss workgroups and future plans to address EPA's priorities.

All interested persons are invited to attend and participate. The LGAC and SCAS will hear comments from the public from 3:45-4:15 p.m. (EDT). Individuals or organizations wishing to address the Committee or Subcommittee will be allowed a maximum of five (5) minutes to present their point of view. Also, written comments should be submitted electronically to LGAC@epa.gov for the LGAC and SCAS. Please contact the DFO at the email listed under FOR FURTHER INFORMATION CONTACT to schedule a time on the agenda by October 12, 2021. Time will be allotted on a first-come first-served basis, and the total period for comments may be extended if the number of requests for appearances requires it.

Registration: The meeting will be held virtually through an online audio and video platform. Members of the public who wish to participate should register through the LGAC website at https://www.epa.gov/ocir/local-government-advisory-committee-lgac or by contacting the Designated Federal Officer (DFO) at LGAC@epa.gov by October 12, 2021. The agenda and other supportive meeting materials will be available online at https://www.epa.gov/ocir/local-government-advisory-committee-lgac and can be obtained by written request to the DFO. In the event of cancellation for unforeseen circumstances, please contact the DFO or check the website above for reschedule information.

Dated: September 29, 2021.
Julian Bowles,
Director, State and Local Relations, Office of Congressional and Intergovernmental Relations.

[FR Doc. 2021-21566 Filed 10-4-21; 8:45 am]

BILLING CODE 6560-50-P